DEPARTMENT OF TRANSPORTATION

Federal Motor Carrier Safety Administration

[Docket No. FMCSA-2010-0327]

Qualification of Drivers; Exemption Applications; Vision

AGENCY: Federal Motor Carrier Safety Administration (FMCSA), DOT.

ACTION: Notice of applications for exemptions; request for comments.

SUMMARY: FMCSA announces receipt of applications from 16 individuals for exemption from the vision requirement in the Federal Motor Carrier Safety Regulations. If granted, the exemptions would enable these individuals to qualify as drivers of commercial motor vehicles (CMVs) in interstate commerce without meeting the Federal vision standard.

DATES: Comments must be received on or before November 22, 2010.

ADDRESSES: You may submit comments bearing the Federal Docket Management System (FDMS) Docket No. FMCSA-2010-0327 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Dr. Mary D. Gunnels, Director,

Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 16 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Jeisson Agudelo-Ortiz

Mr. Agudelo-Ortiz, age 31, has had a prosthetic left eye since birth. The best corrected visual acuity in his right eye is 20/20. Following an examination in 2010, his ophthalmologist noted, “I believe the patient has the ability to operate a commercial vehicle despite loss of the left eye and has done so successfully for many years.” Mr. Agudelo-Ortiz reported that he has driven straight trucks for 2 years, accumulating 9,600 miles and buses for 2 years, accumulating 14,000 miles. He holds a Class C Commercial Driver's License (CDL) from New York. His driving record for the last 3 years shows no crashes and no convictions for moving violations in a CMV.

Charles L. Alsager, Jr.

Mr. Alsager, 47, has had retinal scarring in his left eye since 1985. The best corrected visual acuity in his right eye is 20/20 and in his left eye, 20/400. Following an examination in 2010, his optometrist noted, “I certify that Charles has sufficient vision to operate a commercial vehicle, in my opinion.” Mr. Alsager reported that he has driven straight trucks for 3 years, accumulating 78,000 miles and tractor-trailer combinations for 6 months, accumulating 1,500 miles. He holds a Class A CDL from Iowa. His driving record for the last 3 years shows no crashes and no convictions for moving violations in a CMV.

Eddie A. Branham

Mr. Branham, 42, has had loss of vision in his right eye since childhood. The best corrected visual acuity in his right eye is count-finger vision only, in his left eye, 20/20. Following an examination in 2010, his optometrist noted, “He has been driving safely for many years with glasses and should continue to be able to operate a commercial vehicle safely in this manner.” Mr. Branham reported that he has driven straight trucks for 14 years, accumulating 280,000 miles and tractor-trailer combinations for 14 years, accumulating 140,000 miles. He holds a Class A CDL from North Carolina. His driving record for the last 3 years shows no crashes and no convictions for moving violations in a CMV.

Charlene Brown

Ms. Brown, 47, has had amblyopia in her left eye since childhood. The best corrected visual acuity in her right eye is 20/20 and in her left eye, 20/200. Following an examination in 2010, her optometrist noted, “It is this offices finding that Charlene Brown has sufficient vision to perform the driving tasks required to operate a commercial vehicle.” Ms. Brown reported that she has driven straight trucks for 3 years, accumulating 129,000 miles. She holds a Class C operator's license from Kansas. Her driving record for the last 3 years shows no crashes and no convictions for moving violations in a CMV.

Nathan A. Buckles

Mr. Buckles, 34, has had choreoretinal scarring in his right eye since 1998 due to trauma. The best corrected visual acuity in his right eye is 20/200 and in his left eye, 20/20. Following an examination in 2010, his optometrist noted, “In my opinion, Nathan has sufficient vision to perform the driving tasks required of a commercial driver.” Mr. Buckles reported that he has driven straight trucks for 13 years, accumulating 25,000 miles. He holds a Class A CDL from Indiana. His driving record for the last 3 years shows no crashes and no convictions for moving violations in a CMV.

Dale H. Dattler

Mr. Dattler, 55, has had complete loss of vision in his right eye since childhood due trauma. The best corrected visual acuity in his left eye is 20/20. Following an examination in 2010, his ophthalmologist noted, “In my medical opinion, he has sufficient vision to perform driving tasks to operate a commercial vehicle.” Mr. Dattler reported that he has driven straight trucks for 25 years, accumulating 75,000 miles, and tractor-trailer combinations for 6 years, accumulating 15,000 miles. He holds a Class A CDL from New York. His driving record for the last 3 years shows no crashes and no convictions for moving violations in a CMV.

Daryl Jonescheit

Mr. Jonescheit, 68, has had amblyopia in his right eye since birth. The best corrected visual acuity in his right eye is 20/80 and in his left eye, 20/25. Following an examination in 2010, his optometrist noted, “There is no reason visually why Mr. Jonescheit cannot operate a commercial vehicle with his current stable ocular condition.” Mr. Jonescheit reported that he has driven tractor-trailer combinations for 42 years, accumulating 5 million miles. He holds a Class A CDL from South Dakota. His driving record for the last 3 years shows no crashes and no convictions for moving violations in a CMV.

John N. Lanning

Mr. Lanning, 52, has had amblyopia in his right eye since childhood. The best corrected visual acuity in his right eye is 20/70 and in his left eye, 20/20. Following an examination in 2010, his optometrist noted, “It appears that Mr. Lanning's vision would not hinder him from operating a commercial vehicle.” Mr. Lanning reported that he has driven tractor-trailer combinations for 20 years, accumulating 2 million miles. He holds a Class A CDL from California. His driving record for the last 3 years shows no crashes and no convictions for moving violations in a CMV.

Cynthia K. Linson

Ms. Linson, 47, has had amblyopia in her right eye since childhood. The best corrected visual acuity in her right eye is 20/300 and in her left eye, 20/20. Following an examination in 2010, her ophthalmologist noted, “In my medical opinion she has sufficient vision to perform the driving tasks required to operate a commercial vehicle.” Ms. Linson reported that she has driven buses for 5 years, accumulating 52,000 miles. She holds a Class B CDL from Illinois. Her driving record for the last 3 years shows no crashes and no convictions for moving violations in a CMV.

Charles M. McDaris

Mr. McDaris, 47, has had corneal scarring in his right eye since 1970. The best corrected visual acuity in his right eye is 20/50 only and in his left eye, 20/20. Following an examination in 2010, his optometrist noted, “In my opinion, Mr. McDaris has sufficient vision to perform the driving tasks required to operate a commercial vehicle in that his vision has remained stable at 20/50 in the right eye and 20/20 in the left eye for many years, and he has continued to function without any difficulties.” Mr. McDaris reported that he has driven straight trucks for 13 years, accumulating 733,200 miles and tractor-trailer combinations for 13 years, accumulating 733,200 miles. He holds a Class A CDL from Georgia. His driving record for the last 3 years shows no crashes and no convictions for moving violations in a CMV.

Calvin J. Schaap

Mr. Schaap, 65, has had amblyopia in his right eye since birth. The best corrected visual acuity in his right eye is 20/200 only and in his left eye, 20/15. Following an examination in 2010, his optometrist noted, “In my opinion, Mr. Schaap's vision is sufficient to perform the driving tasks required to operate a commercial vehicle.” Mr. Schaap reported that he has driven straight trucks for 47 years, accumulating 3.7 million miles and tractor-trailer combinations for 46 years, accumulating 460,000 miles. He holds a Class A CDL from Minnesota. His driving record for the last 3 years shows no crashes and no convictions for moving violations in a CMV.

Frederick C. Schultz, Jr.

Mr. Schultz, 38, has had a prosthetic left eye since 1996. The best corrected visual acuity in his right eye is 20/20. Following an examination in 2010, his ophthalmologist noted, “Mr. Schultz has sufficient vision to operate a commercial vehicle.” Mr. Schultz reported that he has driven straight trucks for 16 years, accumulating 166,400 miles, tractor-trailer combinations for 15 years, accumulating 156,000 miles, and buses for 2 years, accumulating 20,000 miles. He holds a Class A CDL from New York. His driving record for the last 3 years shows one crash and no convictions for moving violations in a CMV.

Steve C. Sinclair

Mr. Sinclair, 60, has had amblyopia in his right eye since birth. The best corrected visual acuity in his right eye is 20/200 only and in his left eye, 20/15. Following an examination in 2010, his optometrist noted, “In my opinion, Mr. Sinclair has demonstrated with his many long years of driving that his vision is sufficient to perform the driving tasks required to operate a commercial vehicle.” Mr. Sinclair reported that he has driven straight trucks for 30 years, accumulating 1.5 million miles. He holds a Class C operator's license from Iowa. His driving record for the last 3 years shows one crash and no convictions for moving violations in a CMV.

Eugene J. Smith, Jr.

Mr. Smith, 57, has had histoplasmosis in his left eye since 1999. The best corrected visual acuity in his right eye is 20/15 only and in his left eye, 20/150. Following an examination in 2010, his ophthalmologist noted, “The vision deficiency is stable at this time and is not expected to worsen. His right eye is entirely normal and he has 160 degrees of horizontal field in both eyes. This certifies medically that the patient has sufficient vision to perform any driving tasks and operate a commercial vehicle and should be allowed to perform these tasks.” Mr. Smith reported that he has driven tractor-trailer combinations for 35 years, accumulating 5.2 million miles. He holds a Class A CDL from Wisconsin. His driving record for the last 3 years shows no crashes and no convictions for moving violations in a CMV.

Daniel M. Veselitza

Mr. Veselitza, 70, has had amblyopia in his left eye since childhood. The best corrected visual acuity in his right eye is 20/25 only and in his left eye, 20/80. Following an examination in 2010, his optometrist noted, “According to these guidelines his best-corrected visual acuity in the right eye is sufficient to perform driving tasks required to operate a commercial vehicle.” Mr. Veselitza reported that he has driven straight trucks for 3 years, accumulating 33,000 miles. He holds a Class A CDL from Nevada. His driving record for the last 3 years shows no crashes and no convictions for moving violations in a CMV.

John E. Westbrook

Mr. Westbrook, 60, has had amblyopia in his right eye since childhood and a prosthetic left eye since childhood. The best corrected visual acuity in his right eye is 20/30. Following an examination in 2010, his optometrist noted, “Patient, John Westbrook, does have sufficient vision to perform the driving tasks required to operate a commercial vehicle.” Mr. Westbrook reported that he has driven straight trucks for 15 years, accumulating 900,000 miles and tractor-trailer combinations for 10 years, accumulating 800,000 miles. He holds a Class A CDL from Louisiana. His driving record for the last 3 years shows no crashes and no convictions for moving violations in a CMV.

Request for Comments

In accordance with 49 U.S.C. 31136(e) and 31315, FMCSA requests public comment from all interested persons on the exemption petitions described in this notice. The Agency will consider all comments received before the close of business November 22, 2010. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: October 14, 2010.
Larry W. Minor,
Associate Administrator, Office of Policy and Program Development.

[FR Doc. 2010-26653 Filed 10-20-10; 8:45 am]

BILLING CODE 4910-EX-P